SMALL BUSINESS ADMINISTRATION

[Disaster Declaration #16696 and #16697; Virginia Disaster Number VA-00089]

Administrative Declaration of a Disaster for the Commonwealth of Virginia

AGENCY: U.S. Small Business Administration.

ACTION: Notice.

SUMMARY: This is a notice of an Administrative declaration of a disaster for the Commonwealth of VIRGINIA dated 10/07/2020.

Incident: Tropical Storm Isaias.

Incident Period: 08/03/2020 through 08/05/2020.

DATES: Issued on 10/07/2020.

Physical Loan Application Deadline Date: 12/07/2020.

Economic Injury (EIDL) Loan Application Deadline Date: 07/07/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Cities/Counties: Suffolk City

Contiguous Cities/Counties:

Virginia: Chesapeake City, Isle of Wight, Portsmouth City, Southampton.

North Carolina: Camden, Gates.

The Interest Rates are:

| Percent
For Physical Damage:
Homeowners With Credit Available Elsewhere | 2.375
Homeowners Without Credit Available Elsewhere | 1.188
Businesses With Credit Available Elsewhere | 6.000
Businesses Without Credit Available Elsewhere | 3.000
Non-Profit Organizations With Credit Available Elsewhere | 2.750
Non-Profit Organizations Without Credit Available Elsewhere | 2.750
For Economic Injury:
Businesses & Small Agricultural Cooperatives Without Credit Available Elsewhere | 3.000
Non-Profit Organizations Without Credit Available Elsewhere | 2.750

The number assigned to this disaster for physical damage is 16696 8 and for economic injury is 16697 0.

The States which received an EIDL Declaration # are Virginia, North Carolina.

(Catalog of Federal Domestic Assistance Number 59008)

Jovita Carranza,
Administrator.

[FR Doc. 2020-22781 Filed 10-14-20; 8:45 am]

BILLING CODE 8026-03-P